ENVIRONMENTAL PROTECTION AGENCY

[FRL-9980-59—Region 8]

Proposed Administrative Settlement Agreement and Order on Consent, Black Swan Restoration Reach Good Samaritan Superfund Site, Boulder County, Colorado

AGENCY: Environmental Protection Agency.

ACTION: Notice of proposed agreement; request for public comment.

SUMMARY: In accordance with the requirements of section 122 of the Comprehensive Environmental Response Compensation, and Liability Act of 1980, as amended (“CERCLA”), notice is hereby given of the proposed administrative settlement under sections 104, 106, 107, and 122 of CERCLA, between the U.S. Environmental Protection Agency (“EPA”) and the Fourmile Watershed Coalition and Four Mile Fire Protection District (“Settling Party”). Pursuant to the terms of the proposed settlement, the Settling Party will conduct a Removal Action to abate an actual or threat of release of hazardous substances, pollutants or contaminants at the Black Swan Restoration Reach Good Samaritan Superfund Site located in Boulder County, Colorado. In exchange, the EPA will resolve any potential liability the Settling Party may have under CERCLA. The State of Colorado was consulted on this settlement regarding applicable state laws and regulations.

DATES: Comments must be submitted on or before August 20, 2018. For thirty (30) days following the date of publication of this notice, the Agency will receive written comments relating to the agreement. The Agency will consider all comments received and may modify or withdraw its consent to the agreement if comments received disclose facts or considerations that indicate that the agreement is inappropriate, improper, or inadequate.

ADDRESSES: The Agency's response to any comments, the proposed agreement and additional background information relating to the agreement is available for public inspection at the EPA Superfund Record Center, 1595 Wynkoop Denver, Colorado.

Comments and requests for a copy of the proposed agreement should be addressed to Maureen O'Reilly, Enforcement Specialist, Environmental Protection Agency—Region 8, Mail Code 8ENF-RC, 1595 Wynkoop Street, Denver, Colorado 80202-2466, and should reference the Black Swan Restoration Reach Good Samaritan Superfund Site, Central City, Gilpin County, Colorado.

FOR FURTHER INFORMATION CONTACT: Mark Chalfant, Enforcement Attorney, Legal Enforcement Program, Environmental Protection Agency—Region 8, Mail Code 8ENF-L, 1595 Wynkoop Street, Denver, Colorado 80202-2466, (303) 312-6177.

Dated: June 29, 2018.
Deb Thomas,
Deputy Regional Administrator, U.S. Environmental Protection Agency, Region VIII.

[FR Doc. 2018-15602 Filed 7-19-18; 8:45 am]

BILLING CODE 6560-50-P